SECURITIES AND EXCHANGE COMMISSION

[Release No. 34-71623; File No. SR-FINRA-2013-050]

Self-Regulatory Organizations; Financial Industry Regulatory Authority, Inc.; Notice of Filing of Amendment No. 1 and Order Granting Accelerated Approval of a Proposed Rule Change, as Modified by Amendment No. 1, Relating to Over-the-Counter Equity Trade Reporting and OATS Reporting

February 27, 2014.

Correction

In notice document 2014-04792, appearing on pages 12558-12562 in the issue of Wednesday, March 5, 2014, make the following correction:

On page 12562, in the third column, on the tenth and eleventh lines, the entry “[insert date 21 days from publication in the Federal Register].” is corrected to read “March 26, 2014.”

[FR Doc. C1-2014-04792 Filed 3-17-14; 8:45 am]

BILLING CODE 1505-01-D